SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: March 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above. Water Source Approval—Issued Under 18 CFR 806.22(f):

1. Repsol Oil & Gas U.S.A., L.L.C.; Pad ID: DCNR 587 (02 015); ABR-201012012.R2; Ward Township, Tioga County, Pa.; Consumptive Use of Up to 6.0000 mgd; Approval Date: March 14, 2023.

2. Seneca Resources Company, L.L.C.; Pad ID: Crittenden 593; ABR-201012016.R2; Richmond Township, Tioga County, Pa.; Consumptive Use of Up to 4.0000 mgd; Approval Date: March 14, 2023.

3. Seneca Resources Company, L.L.C.; Pad ID: Hitesman 580; ABR-201012052.R2; Covington Township, Tioga County, Pa.; Consumptive Use of Up to 4.0000 mgd; Approval Date: March 14, 2023.

4. S.W.N. Production Company, L.L.C.; Pad ID: BOMAN PAD; ABR-201212011.R2; Jackson Township, Susquehanna County, Pa.; Consumptive Use of Up to 4.9990 mgd; Approval Date: March 14, 2023.

5. S.W.N. Production Company, L.L.C.; Pad ID: CONKLIN EAST; ABR-201212009.R2; New Milford Township, Susquehanna County, Pa.; Consumptive Use of Up to 4.9990 mgd; Approval Date: March 14, 2023.

6. S.W.N. Production Company, L.L.C.; Pad ID: SWEENEY PAD; ABR-201212005.R2; New Milford Township, Susquehanna County, Pa.; Consumptive Use of Up to 4.9990 mgd; Approval Date: March 14, 2023.

7. S.W.N. Production Company, L.L.C.; Pad ID: Swisher (Pad R); ABR-201212012.R2; Stevens Township, Bradford County, Pa.; Consumptive Use of Up to 4.9990 mgd; Approval Date: March 14, 2023.

8. S.W.N. Production Company, L.L.C.; Pad ID: TINGLEY PAD; ABR-201212010.R2; New Milford Township, Susquehanna County, Pa.; Consumptive Use of Up to 4.9990 mgd; Approval Date: March 14, 2023.

9. Coterra Energy Inc.; Pad ID: ZickW P1; ABR-201212008.R2; Lenox Township, Susquehanna County, Pa.; Consumptive Use of Up to 5.0000 mgd; Approval Date: March 21, 2023.

10. Pennsylvania General Energy Company, L.L.C.; Pad ID: C.O.P. Tract 322 Pad A; ABR-201301004.R2; Cummings and McHenry Townships, Lycoming County, Pa.; Consumptive Use of Up to 3.5000 mgd; Approval Date: March 21, 2023.

11. Pennsylvania General Energy Company, L.L.C.; Pad ID: C.O.P. Tract 322 Pad B; ABR-201301005.R2; McHenry Township, Lycoming County, Pa.; Consumptive Use of Up to 3.5000 mgd; Approval Date: March 21, 2023.

12. Range Resources—Appalachia, L.L.C.; Pad ID: Ogontz Fishing Club #18H-#23H Drilling Pad; ABR-201011073.R2; Cummings Township, Lycoming County, Pa.; Consumptive Use of Up to 5.0000 mgd; Approval Date: March 21, 2023.

13. Range Resources—Appalachia, L.L.C.; Pad ID: Ogontz Fishing Club #24H-#29H Drilling Pad; ABR-201011077.R2; Cummings Township, Lycoming County, Pa.; Consumptive Use of Up to 5.0000 mgd; Approval Date: March 21, 2023.

14. Range Resources—Appalachia, L.L.C.; Pad ID: Ogontz Fishing Club #30H-#35H; ABR-201012043.R2; Cummings Township, Lycoming County, Pa.; Consumptive Use of Up to 5.0000 mgd; Approval Date: March 21, 2023.

15. Range Resources—Appalachia, L.L.C.; Pad ID: Paulhamus, Frederick Unit #5H & #6H Drilling Pad; ABR-201011074.R2; Mifflin Township, Lycoming County, Pa.; Consumptive Use of Up to 5.0000 mgd; Approval Date: March 21, 2023.

16. Seneca Resources Company, L.L.C.; Pad ID: Buckwalter 429; ABR-201012049.R2; Delmar Township, Tioga County, Pa.; Consumptive Use of Up to 4.0000 mgd; Approval Date: March 23, 2023.

17. Seneca Resources Company, L.L.C.; Pad ID: Stratton 885; ABR-201101008.R2; Farmington Township, Tioga County, Pa.; Consumptive Use of Up to 4.0000 mgd; Approval Date: March 23, 2023.

18. Chesapeake Appalachia, L.L.C.; Pad ID: Weisbrod; ABR-201011010.R2; Sheshequin Township, Bradford County, Pa.; Consumptive Use of Up to 7.5000 mgd; Approval Date: March 27, 2023.

19. Coterra Energy Inc.; Pad ID: MacDowallR P1; ABR-201201002.R2; Harford Township, Susquehanna County, Pa.; Consumptive Use of Up to 5.0000 mgd; Approval Date: March 27, 2023.

20. S.T.L. Resources, L.L.C.; Pad ID: Hillside Pad; ABR-20091233.R2; Gaines Township, Tioga County, Pa.; Consumptive Use of Up to 4.9900 mgd; Approval Date: March 27, 2023. Seneca Resources Company, L.L.C.; Pad ID: Bielski 628; ABR-201101009.R2; Richmond Township, Tioga County, Pa.; Consumptive Use of Up to 4.0000 mgd; Approval Date: March 27, 2023.

21. Seneca Resources Company, L.L.C.; Pad ID: Violet Bieser Revoc Liv Tr 833; ABR-201101010.R2; Chatham Township, Tioga County, Pa.; Consumptive Use of Up to 4.0000 mgd; Approval Date: March 27, 2023.

22. S.W.N. Production Company, L.L.C.; Pad ID: WALKER WEST PAD 14; ABR-201301010.R2; Jackson Township, Susquehanna County, Pa.; Consumptive Use of Up to 4.9990 mgd; Approval Date: March 27, 2023.

23. Chesapeake Appalachia, L.L.C.; Pad ID: Castle A Drilling Pad #1; ABR-201202012.R2; Canton Township, Bradford County, Pa.; Consumptive Use of Up to 7.5000 mgd; Approval Date: March 28, 2023.

24. Chesapeake Appalachia, L.L.C.; Pad ID: SGL 12 M NORTH DRILLING PAD; ABR-201802002.R1; Leroy Township, Bradford County, Pa.; Consumptive Use of Up to 7.5000 mgd; Approval Date: March 28, 2023.

25. Coterra Energy Inc.; Pad ID: KropaT P1; ABR-201301017.R2; Springville Township, Susquehanna County, Pa.; Consumptive Use of Up to 5.0000 mgd; Approval Date: March 28, 2023.

26. EXCO Resources (P.A.), L.L.C.; Pad ID: Dale Bower East Unit Pad; ABR-201202009.R2; Penn Township, Lycoming County, Pa.; Consumptive Use of Up to 8.0000 mgd; Approval Date: March 28, 2023.

27. JKLM Energy, L.L.C.; Pad ID: Headwaters 146; ABR-201803006.R1; Ulysses Township, Potter County, Pa.; Consumptive Use of Up to 3.2000 mgd; Approval Date: March 28, 2023.

28. JKLM Energy, L.L.C.; Pad ID: Judson Hollow 302; ABR-201802003.R1; Pike Township, Potter County, Pa.; Consumptive Use of Up to 3.2000 mgd; Approval Date: March 28, 2023.

29. S.T.L. Resources, L.L.C.; Pad ID: Sturgis Pad; ABR-201802001.R1; Gallagher Township, Clinton County, Pa.; Consumptive Use of Up to 5.0000 mgd; Approval Date: March 28, 2023.

30. Seneca Resources Company, L.L.C.; Pad ID: DCNR 100 Pad T; ABR-201301013.R2; Lewis Township, Lycoming County, Pa.; Consumptive Use of Up to 4.0000 mgd; Approval Date: March 28, 2023.

31. Chesapeake Appalachia, L.L.C.; Pad ID: SGL 12 K UNIT PAD; ABR-201702004.R1; Leroy Township, Bradford County, Pa.; Consumptive Use of Up to 7.5000 mgd; Approval Date: March 31, 2023.

32. Chesapeake Appalachia, L.L.C.; Pad ID: Taylor Drilling Pad B; ABR-201703003.R1; Lenox Township, Susquehanna County, Pa.; Consumptive Use of Up to 7.5000 mgd; Approval Date: March 31, 2023.

33. Coterra Energy Inc.; Pad ID: LoffredoJ P1; ABR-201211017.R2; Nicholson Township, Wyoming County, Pa.; Consumptive Use of Up to 5.0000 mgd; Approval Date: March 31, 2023.

34. Inflection Energy (P.A.) L.L.C.; Pad ID: Brass Well Site; ABR-201802004.R1; Upper Fairfield Township, Lycoming County, Pa.; Consumptive Use of Up to 4.0000 mgd; Approval Date: March 31, 2023.

35. Range Resources—Appalachia, L.L.C.; Pad ID: Bobst A Unit 25H-27H; ABR-201202018.R2; Cogan House Township, Lycoming County, Pa.; Consumptive Use of Up to 5.0000 mgd; Approval Date: March 31, 2023.

36. Range Resources—Appalachia, L.L.C.; Pad ID: Goodwill Hunting Club Unit #4H-#9H Drilling Pad; ABR-201011054.R2; Lewis Township, Lycoming County, Pa.; Consumptive Use of Up to 4.0000 mgd; Approval Date: March 31, 2023.

37. Seneca Resources Company, L.L.C.; Pad ID: Covington Pad M; ABR-201102031.R2; Covington Township, Tioga County, Pa.; Consumptive Use of Up to 4.0000 mgd; Approval Date: March 31, 2023.

38. S.W.N. Production Company, L.L.C.; Pad ID: FLICKS RUN EAST PAD; ABR-201302003.R2; Cogan House Township, Lycoming County, Pa.; Consumptive Use of Up to 4.9990 mgd; Approval Date: March 31, 2023.

Authority: Public Law 91-575, 84 Stat. 1509 et seq., 18 CFR parts 806 and 808.

Jason E. Oyler,
General Counsel and Secretary to the Commission.

[FR Doc. 2023-07603 Filed 4-11-23; 8:45 am]

BILLING CODE 7040-01-P